FEDERAL ELECTION COMMISSION

Sunshine Act Meetings

AGENCY: Federal Election Commission.

DATE AND TIME: Thursday, February 11, 2016 At 10:00 a.m.

PLACE: 999 E Street NW., Washington, DC (Ninth Floor).

STATUS: This meeting will be open to the public.

ITEMS TO BE DISCUSSED: Correction and Approval of Minutes for December 17, 2015 and January 14, 2016

Draft Advisory Opinion 2015-14: Hillary for America

Draft Advisory Opinion 2015-16: Niger Innis for Congress

Audit Division Recommendation Memorandum on the Oklahoma Democratic Party (ODP) (A12-06)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer. Telephone: (202) 694-1220.

Shawn Woodhead Werth,
Secretary and Clerk of the Commission.

[FR Doc. 2016-02593 Filed 2-5-16; 11:15 am]

BILLING CODE 6715-01-P